DEPARTMENT OF LABOR

Office of the Secretary

Submission for OMB Review; Comment Request

November 25, 2003.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting the Department of Labor. To obtain documentation contact Darrin King at (202) 693-4129 (this is not a toll-free number) or E-MAIL king.darrin@dol.gov.

Comments should be sent to Office of Information and Regulatory Affairs, Attn: OMB Desk Officer for the Employee Benefits Security Administration (EBSA), Office of Management and Budget, Room 10235, Washington, DC 20503, (202) 395-7316 (this is not a toll-free number), within 30 days from the date of this publication in the Federal Register.

The OMB is particularly interested in comments which:

• Evaluate whether the proposed collection of information is necessary for the proper performance of the functions of the agency, including whether the information will have practical utility:

• Evaluate the accuracy of the agency's estimate of the burden of the proposed collection of information, including the validity of the methodology and assumptions used;

• Enhance the quality, utility, and clarity of the information to be collected; and minimize the burden of the collection of information on those who are to respond, including through the use of appropriate automated, electronic mechanical, or other technological collection techniques or other forms of information technology, e.g., permitting electronic submission of responses.

Agency: Employee Benefits Security Administration.

Type of Review: Extension of a currently approved collection.

Title: Summary Plan Description Requirements under ERISA.

OMB Number: 1210-0039.

Affected Public: Business or other for-profit; Not-for-profit institutions; and Individuals or households.

Frequency: On occasion.

Type of Response: Third party disclosure.

Number of Respondents: 1,086,017.

Number of Annual Responses: 148,128,000.

Total Burden Hours: 1,349,254.

Total Annualized Capital/Startup Costs: $0.

Total Annual Costs (operating/maintaining systems or purchasing services): $427,874,341.

Description: Section 104(b)(1) of the Employee Retirement Income Security Act of 1974 (ERISA) requires that the administrator of an employee benefit plan furnish plan participants and certain beneficiaries with a Summary Plan Description (SPD) which describes, in language understandable to an average plan participant, the benefits and rights and obligations of participants in the plan. The information required to be contained in the SPD is set forth in section 102(b) of the statute and regulations at 29 CFR 2520.102-3. To the extent that there is a material modification in the term of the plan or a change in the required content of the SPD, section 104(b)(1) requires that the administrator furnish participants and beneficiaries with a summary of material modifications or summary of material reduction.

Ira L. Mills,
Departmental Clearance Officer.

[FR Doc. 03-30079 Filed 12-2-03; 8:45 am]

BILLING CODE 4510-29-M